DEPARTMENT OF ENERGY

Federal Energy Regulatory Commission

Notice of Scoping Meeting and Soliciting Scoping Comments for an Applicant Prepared Environmental Assessment Using the Alternative Licensing Process

February 12, 2002.

a. Type of Application: Alternative procedures to prepare a new license application.

b. Project Nos.: P-2146-090, P-82-019, P-618-104, and P-2165-015.

c. Applicant: Alabama Power Company.

d. Name of Projects: Coosa River Project (Weiss, Neely Henry, Logan Martin, Lay and Bouldin developments), Mitchell Project, Jordan Project, and Warrior River Project (Lewis Smith and Bankhead developments), collectively called the Coosa-Warrior Projects.

e. Location: On the Coosa and Warrior Rivers, in Cherokee, Etowah, Calhoun, St. Clair, Talladega, Chilton, Coosa, Shelby, Elmore, Walker, Winston, Cullman, and Tuscaloosa Counties, Alabama and Floyd County, Georgia. The Warrior River Project occupies federal lands within the Bankhead National Forest.

f. Filed Pursuant to: Federal Power Act, 16 U.S.C. §§ 791(a)—825®).

g. Applicant Contacts: Jim Crew, Relicensing Project Manager, Alabama Power Company, 600 North 18th Street, Birmingham, AL 35291, (205) 257-4265, e-mail jfcrew@southernco.com or Barry Lovett, Relicensing Project Manager, Alabama Power Company, 600 North 18th Street, Birmingham, AL 35291, (205) 257-1268, e-mail bklovett@southernco.com.

h. FERC Contact: Ronald McKitrick at (770) 452-3778; e-mail ronald.mckitrick@ferc.fed.us.

i. Deadline for filing scoping comments: April 12, 2002.

All documents (original and eight copies) should be filed with: Magalie Roman Salas, Secretary, Federal Energy Regulatory Commission, 888 First Street, NE., Washington, DC 20426.

Scoping comments may be filed electronically via the Internet in lieu of paper. See 18 CFR 385.2001(a)(l)(iii) and the instructions of the Commission's web site (http://ww.ferc.gov) under the “e-filing” link.

The existing Coosa River Project consists of five developments (Weiss, Neely Henry, Logan Martin, Lay, and Bouldin) with a total rated capacity of 705.78 MW. Lay and Bouldin operate principally as run-of-river projects. Weiss, Neely Henry, and Logan Martin operate as peaking projects. The Mitchell Project has a rated capacity of 170 MW and operates principally as run-of-river. The Jordan Project has a rated capacity of 100 MW and operates principally as run-of-river. The Warrior River Projects consists of two developments (Lewis Smith and Bankhead) with a total rated capacity of 210 MW, Lewis Smith is a peaking project and Bankhead operates principally as run-of-river. The Bankhead development is located on an existing ACOE dam and reservoir. The project includes the powerhouse only.

k. Scoping Process

Alabama Power Company (APC) intends to utilize the Federal Energy Regulatory Commission's (Commission) alternative licensing process (ALP). Under the ALP, APC will prepare an Applicant Prepared Environmental Assessment (APEA) and license application for the Coosa-Warrior Projects.

APC expects to file the APEA and the license application for the Coosa-Warrior Projects with the Commission by July 2005.

The purpose of this notice is to inform you of the opportunity to participate in the upcoming scoping meeting identified below, and to solicit your scoping comments.

Scoping Meeting

APC and the Commission staff will hold an evening scoping meeting to help us identify the scope of issues to be addressed in the APEA.

All interested individuals, organizations, and agencies are invited to attend the meeting, to assist the staff in identifying the environmental issues and reasonable alternatives that should be analyzed in the APEA. The time and location of the evening meeting is as follows:

Tuesday, March 12, 2002, 7:00 pm to 9:00 pm.

Sheraton Birmingham South Hotel, 8 Perimeter Drive, Birmingham, Alabama 35243, (205) 967-2700.

Scoping Document 1 (SD1) outlines the subject areas to be addressed in the APEA and describes the accomplishments of the stakeholders during early scoping efforts for the APEA. The purpose of the SD1 is to help focus discussions at the meeting. SD1 was mailed by February 18th to the APEA participants, in addition copies will be available at the scoping meeting. If you did not receive a copy of SD1 and would like to review the document before the meeting you can locate the document on the APC website using the following link http://www.southernco.com/alpower/hydro. (For assistance, please contact APC at (205) 257-2211). You may also use the Commission's website at www.ferc.gov using the “RIMS” link—select “Docket No.” and follow the instructions (call (202)-452-3778 or by email at ronald.mckitrick@ferc.fed.us. You may also receive a copy via electronic mail.

Based on all written comments received, a Scoping Document 2 (SD2) may be issued. SD2 will include a revised list of issues, based on the scoping sessions.

Objectives

At the scoping meeting, the Commission staff and APC will: (1) summarize the environmental issues tentatively identified for analysis in the APEA; (2) solicit from the meeting participants all available information, especially quantifiable data, on the resources at issue; (3) encourage statements from the experts and the public on issues that should be analyzed in the APEA, including viewpoints in opposition to, or in support of stakeholder's list of issues as defined in SD1; (4) determine the resource issues to be addressed in the APEA; and (5) identify those issues that require a detailed analysis, as well as those issues that do not require a detailed analysis.

Procedures

The meeting will be recorded by a stenographer and will become part of the formal record of the Commission proceeding on the project.

Individuals, organizations and agencies with environmental expertise and concerns are encouraged to attend the meeting and to assist the APC in defining and clarifying the issues to be addressed in the APEA.

Magalie R. Salas,
Secretary.

[FR Doc. 02-3910 Filed 2-15-02; 8:45 am]

BILLING CODE 6717-01-P